FEDERAL COMMUNICATIONS COMMISSION

[CC Docket No. 92-237; DA 01-242]

Next Meeting of the North American Numbering Council

AGENCY: Federal Communications Commission.

ACTION: Notice.

SUMMARY: On January 31, 2001, the Commission released a public notice announcing the February 20 and 21, 2001, meeting and agenda of the North American Numbering Council (NANC). The intended effect of this action is to make the public aware of the NANC's next meeting and its agenda.

FOR FURTHER INFORMATION CONTACT: Cheryl Callahan, Designated Federal Officer (DFO) at (202) 418-2320 or cchallaha@fcc.gov. The address is: Network Services Division, Common Carrier Bureau, Federal Communications Commission, The Portals, 445 12th Street, SW., Suite 6A207, Washington, DC 20554. The fax number is: (202) 418-2345. The TTY number is: (202) 418-0484.

SUPPLEMENTARY INFORMATION: Released: January 31, 2001.

The North American Numbering Council (NANC) has scheduled a meeting to be held Tuesday, February 20, 2001, from 8:30 a.m. until 5 p.m., and on Wednesday, February 21, from 8:30 a.m., until 12 noon. The meeting will be held at the Federal Communications Commission, Portals II, 445 12th Street, SW., Room TW-C305, Washington, DC.

SUPPLEMENTARY INFORMATION: This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Cheryl Callahan at the address under FOR FURTHER INFORMATION CONTACT, stated above.

Proposed Agenda

1. Approval of January 16-17, 2001, meeting minutes.

2. North American Numbering Plan Administrator (NANPA) Report

3. Report of NANPA Oversight Working Group

—Proposed Process to Resolve PIPs

—Status of NANPA Requirements Document

—Status of NANPA Performance Review

4. Report of Numbering Resource Optimization (NRO) Working Group

—Final NRUF Requirements

—Continuing Review of NANP-Exhaust

—Monitoring of State Pooling Trials

5. Industry Numbering Committee Report

6. Report of Toll Free Access Codes IMG

7. Report of the Local Number Portability Administration (LNPA) Working Group

Wireless Number Portability Subcommittee

8. Report of Cost Recovery Working Group

Status of NBANC B&C Technical Requirements

9. Report from NBANC

10. Reseller CIC IMG status report

11. Oversight of LLCs NPAC

12. Meeting Procedures IMG

13. Action Items

14. Steering Group Meeting

—Table of NANC Projects

—Change September 18-19 Meeting to September 11-12

15. The Big Picture Discussion

16. Public Participation (5 minutes each, if any)

17. Other Business

Federal Communications Commission.
Diane Griffin Harmon,
Deputy Chief, Network Services Division, Common Carrier Bureau.

[FR Doc. 01-2948 Filed 2-2-01; 8:45 am]

BILLING CODE 6712-01-P